DEPARTMENT OF HEALTH AND HUMAN SERVICES

National Institutes of Health

National Cancer Institute; Amended Notice of Meeting

Notice is hereby given of a change in the meeting of the National Cancer Institute Special Emphasis Panel, February 24, 2017, 11:00 a.m. to February 24, 2017, 05:00 p.m., National Cancer Institute-Shady Grove, 9606 Medical Center Drive, 3W030, Rockville, MD 20850 which was published in the Federal Register on December 13, 2016, 81 FR 89953.

The meeting notice is amended to change the name of the meeting to “IT for Cancer Research” and the contact person to Nadeem Khan, Ph.D., Scientific Review Officer, Office of Referral, Review, and Program Coordination, Division of Extramural Activities, National Cancer Institute, 9609 Medical Center Drive, Room 7W530, Rockville, MD 20892-9750, 240-276-6442, ss537t@nih.gov. The meeting is closed to the public.

Dated: January 24, 2017.
Melanie J. Pantoja,
Program Analyst, Office of Federal Advisory Committee Policy.

[FR Doc. 2017-01891 Filed 1-27-17; 8:45 am]

BILLING CODE 4140-01-P